DEPARTMENT OF ENERGY

Federal Energy Regulatory Commission

Combined Notice of Filings

Take notice that the Commission has received the following Natural Gas Pipeline Rate and Refund Report filings:

Docket Number: PR21-47-000.

Applicants: Columbia Gas of Maryland, Inc.

Description: Tariff filing per 284.123(b), (e)/: CMD Rates Effective May 1 2021 to be effective 5/1/2021.

Filed Date: 5/24/2021.

Accession Number: 202105245095.

Comments/Protests Due: 5 p.m. ET 6/14/2021.

Docket Number: PR21-48-000.

Applicants: Columbia Gas of Ohio, Inc.

Description: Tariff filing per 284.123(b), (e)/: COH Rates Effective April 29 2021 to be effective 4/29/2021.

Filed Date: 5/24/2021.

Accession Number: 202105245145.

Comments/Protests Due: 5 p.m. ET 6/14/2021.

Docket Numbers: RP21-821-001.

Applicants: Venice Gathering System, L.L.C.

Description: Tariff Amendment: Errata to be effective 7/1/2021.

Filed Date: 5/25/21.

Accession Number: 20210525-5019.

Comments Due: 5 p.m. ET 6/7/21.

Docket Numbers: RP21-839-000.

Applicants: Texas Eastern Transmission, LP.

Description: § 4(d) Rate Filing: Negotiated Rates—Gulfport Amendment 911377 to be effective 5/1/2021.

Filed Date: 5/25/21.

Accession Number: 20210525-5000.

Comments Due: 5 p.m. ET 6/7/21.

Docket Numbers: RP21-840-000.

Applicants: Eastern Gas Transmission and Storage, Inc.

Description: § 4(d) Rate Filing: EGTS—West Loop Project (CP19-26) Transportation Service & Negotitated Rate to be effective 7/1/2021.

Filed Date: 5/25/21.

Accession Number: 20210525-5029.

Comments Due: 5 p.m. ET 6/7/21.

Docket Numbers: RP21-841-000.

Applicants: Carolina Gas Transmission, LLC.

Description: § 4(d) Rate Filing: CGT—Fuel Waiver to be effective 6/24/2021.

Filed Date: 5/25/21.

Accession Number: 20210525-5053.

Comments Due: 5 p.m. ET 6/7/21.

Docket Numbers: RP21-842-000.

Applicants: El Paso Natural Gas Company, L.L.C.

Description: § 4(d) Rate Filing: Negotiated Rate Agreement Update (Pioneer Jul-Sep 2021) to be effective 7/1/2021.

Filed Date: 5/25/21.

Accession Number: 20210525-5078.

Comments Due: 5 p.m. ET 6/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 26, 2021.
Debbie-Anne A. Reese,
Deputy Secretary.

[FR Doc. 2021-11580 Filed 6-1-21; 8:45 am]

BILLING CODE 6717-01-P